DEPARTMENT OF AGRICULTURE

DEPARTMENT OF HEALTH AND HUMAN SERVICES

Announcement of Intent To Establish the 2010 Dietary Guidelines Advisory Committee and Solicitation of Nominations for Membership

AGENCIES: U.S. Department of Agriculture (USDA), Food, Nutrition, and Consumer Services (FNCS) and Research, Education and Economics (REE); and U.S. Department of Health and Human Services (HHS), Office of Public Health and Science (OPHS).

ACTION: Notice.

SUMMARY: The Department of Agriculture and the Department of Health and Human Services announce the intent to establish a Dietary Guidelines Advisory Committee and invite nominations for the Committee.

DATES: Nominations must be submitted by close of business on May 24, 2008.

ADDRESSES: Nominations may be submitted by electronic mail to DG2010Nominations@cnpp.usda.gov. This address can be obtained through our Web site at www.cnpp.usda.gov. Alternatively, nominations may be sent to the following address: Carole Davis, Nutrition Promotion Staff Director, Co-Executive Secretary of the Dietary Guidelines Advisory Committee, Center for Nutrition Policy and Promotion, U.S. Department of Agriculture, 3101 Park Center Drive, Room 1034, Alexandria, VA 22302, (703)-305-7600 (telephone), (703)-305-3300 (fax).

FOR FURTHER INFORMATION CONTACT: USDA Co-Executive Secretaries: Carole Davis (telephone 703-305-7600), Center for Nutrition Policy and Promotion, 3101 Park Center Drive, Room 1034, Alexandria, Virginia 22302; or, Shanthy Bowman, (telephone 301-504-0619), Agricultural Research Service, Beltsville Human Nutrition Research Center, 10300 Baltimore Avenue, Bldg. 005, Room 125, BARC-WEST, Beltsville, Maryland 20705. HHS Co-Executive Secretaries: Kathryn McMurry (telephone 240-453-8280) or Holly McPeak (telephone 240-453-8280), Office of Disease Prevention and Health Promotion, Office of Public Health and Science, 1101 Wootton Parkway, Suite LL100, Rockville, Maryland 20852. Additional information is available on the Internet at http://www.cnpp.usda.gov.

SUPPLEMENTARY INFORMATION: Authority and Purpose: The formation of this Committee is necessary and in the public interest. The Committee will be established in accordance with the Federal Advisory Committee Act, 5 U.S.C. Appendix 2. Section 301 of the National Nutrition Monitoring and Related Research Act of 1990, 7 U.S.C. 5341, requires the Secretaries of HHS and USDA to publish the Dietary Guidelines for Americans at least every five years. The Dietary Guidelines for Americans contain nutrition and dietary information for the general public over 2 years of age. Because of its focus on health promotion and risk reduction, the Dietary Guidelines form the basis for Federal food and nutrition policy and education activities. The information and key recommendations of the Dietary Guidelines for Americans are based on the preponderance of scientific and medical knowledge which is current at the time.

The Dietary Guidelines were first published by HHS and USDA in 1980, with revisions in 1985, 1990, 1995, 2000 and 2005. Beginning with the 1985 edition, HHS and USDA have appointed a Dietary Guidelines Advisory Committee of prominent experts in nutrition and health to make recommendations regarding the Dietary Guidelines.

Structure: The Committee will evaluate whether a revision of the 2005 edition of the Dietary Guidelines for Americans is warranted, based on a thorough evaluation of the most current scientific and applied literature and, if so, will proceed to develop recommendations for these revisions in an advisory report to the Secretaries of Agriculture and Health and Human Services. The Committee is expected to begin meeting during the Fall of 2008 and will hold two- or three-day meetings, on four or possibly five occasions over the course of its appointment. Pursuant to the requirements of the Federal Advisory Committee Act, the meetings will be open to the public. After all meetings have concluded, the Committee will prepare a report of its recommendations.

For those interested in the 2005 edition of the advisory report, it is available electronically at http://www.healthierus.gov/dietaryguidelines. A limited number of hard copies are available upon request from the USDA or HHS Co-Executive Secretaries listed above.

Prospective members of the Dietary Guidelines Advisory Committee should be knowledgeable of current scientific research in human nutrition and be respected and published experts in their fields. They should be familiar with the purpose, communication, and application of the Dietary Guidelines and have demonstrated interest in the public's health and well-being through their research and/or educational endeavors. Expertise is sought in specific specialty areas, including but not limited to, the prevention of chronic diseases (e.g., cancer, cardiovascular disease, type 2 diabetes, obesity, and osteoporosis), energy balance (including physical activity), epidemiology, food safety and technology, general medicine, gerontology, nutrient bioavailability, nutrition biochemistry and physiology, nutrition education, pediatrics, public health, and evidence review methodology.

Nominations: The Departments will consider nominations for Committee membership of individuals qualified to carry out the above-mentioned tasks. A nomination should include, at a minimum, the following for each nominee: (1) A letter of nomination that clearly states the name and affiliation of the nominee, the basis for the nomination (i.e., specific attributes which qualify the nominee for service in this capacity), and a statement that the nominee would be willing to serve as a member of the Committee, if selected; (2) the nominator's name, address and daytime telephone number, and the address, telephone number and electronic mail address of the individual being nominated; and (3) a copy of the nominee's curriculum vitae.

Equal opportunity practices regarding membership appointments to the Committee, will be aligned with USDA and HHS policies. To ensure that recommendations of the Committee take into account the needs of the diverse groups served by USDA and HHS, membership shall include, to the extent practicable, individuals with demonstrated ability to represent minorities, women, and persons with disabilities.

Dated: March 26, 2008.
Nancy Montanez Johner,
Under Secretary,Food, Nutrition and Consumer Services,U.S. Department of Agriculture.
Dated: March 31, 2008.
Gale A. Buchanan,
Under Secretary,Research, Education, and Economics,U.S. Department of Agriculture.
Dated: April 3, 2008.
Joxel Garcia,
Assistant Secretary for Health, U.S. Department of Health and Human Services.

[FR Doc. E8-7614 Filed 4-9-08; 8:45 am]

BILLING CODE 3410-30-P